SECURITIES AND EXCHANGE COMMISSION

Sunshine Act Meetings

STATUS: Closed Meeting.

PLACE: 100 F Street NE., Washington, DC.

DATE AND TIME OF PREVIOUSLY ANNOUNCED MEETING: June 26, 2014 at 2 p.m.

CHANGE IN THE MEETING: Additional Item.

FEDERAL REGISTER CITATION OF PREVIOUS ANNOUNCEMENT: [79 FR 35823, June 24, 2014].

The following matter will also be considered during the 2 p.m. Closed Meeting scheduled for Thursday, June 26, 2014:

A civil litigation matter

The General Counsel of the Commission, or her designee, has certified that, in her opinion, one or more of the exemptions as set forth in 5 U.S.C. 552b(c)(3), (5), (7), (9)(B) and (10) and 17 CFR 200.402(a)(3), (5), (7), (9)(ii) and (10), permit consideration of the scheduled matter at the Closed Meeting.

Commissioner Aguilar, as duty officer, voted to consider the item listed for the Closed Meeting in closed session, and determined that no earlier notice thereof was possible.

At times, changes in Commission priorities require alterations in the scheduling of meeting items. For further information and to ascertain what, if any, matters have been added, deleted or postponed, please contact the Office of the Secretary at (202) 551-5400.

Dated: June 26, 2014.
Kevin M. O'Neill,
Deputy Secretary.

[FR Doc. 2014-15394 Filed 6-26-14; 4:15 pm]

BILLING CODE 8011-01-P